DEPARTMENT OF ENERGY

Federal Energy Regulatory Commission

Notice of Commissioners and Staff Attendance at FERC Leadership Development Program Graduation/Induction Ceremony

The Federal Energy Regulatory Commission (FERC or Commission) hereby gives notice that members of the Commission and/or Commission staff may attend the following event:

FERC Leadership Development Program Graduation/Induction Ceremony: 888 First Street NE., Washington, DC 20426.

May 8, 2012 (10:00 a.m.-11:00 a.m.).

The event will introduce and welcome 17 employees selected for the 2012 Leadership Development Program and graduate 15 employees from the 2011 program.

Dated: April 30, 2012.
Kimberly D. Bose,
Secretary.

[FR Doc. 2012-10786 Filed 5-3-12; 8:45 am]

BILLING CODE 6717-01-P